FEDERAL EMERGENCY MANAGEMENT AGENCY

Agency Information Collection Activities: Proposed Collection; Comment Request

AGENCY: Federal Emergency Management Agency.

ACTION: Notice and request for comments.

SUMMARY: The Federal Emergency Management Agency, as part of its continuing effort to reduce paperwork and respondent burden, invites the general public and other Federal agencies to take this opportunity to comment on proposed new information collections. In accordance with the Paperwork Reduction Act of 1995 (44 U.S.C. 3506(c)(2)(A)), this notice seeks comments concerning the development of the Fire and Emergency Services Higher Education Academic Fire Programs Database using a survey instrument.

SUPPLEMENTARY INFORMATION: As chief officer promotional requirements for bachelor's degree in U.S. fire departments increases, so do interest in the academic fire programs that offer them. Moreover, the work schedules of fire fighters oftentimes direct them to distance education programs as alternative to traditional programs. Likewise, since the events of September 11, increased interest in fire fighting as a career choice may drive up enrollments in two- and four-year colleges offering degrees in fire science and fire administration.

All of these factors contribute to a national need for this database and the consequence of not doing this project is an unmet need of an important constituency. Finally, the Government Performance and Results Act require our measuring program results. The program office has established four areas of measurement, of which this survey will directly support one.

Collection of Information

Title: Fire and Emergency Services Higher Education Academic Fire Programs Database and Performance Measurement.

Type of Collection: New.

Form Numbers: To be assigned.

Abstract: Over the past fifteen years the role and scope of the fire service has changed considerably. Increasingly, fire department responses have changed from mainly structural fires to responding to a wide variety of incidents such as medical calls, hazardous materials incidents, and advanced rescues. The tragic events of September 11, 2001, further changed its role and scope as fire departments begin to prepare for future terrorist acts. The fire service is in a critical period as it attempts to provide efficient and effective service delivery at the same time as expanding services. To meet these new challenges, fire service related organizations must work together at the local, state, and national level. One such area where collaboration among and between fire services related organizations is lacking is Training an Education. The U.S. Fire Administration's National Fire Academy has taken a lead role in coordinating and supporting communication between degree programs and interaction between state training agencies and degree programs.

This study will help this process by providing the fire service community with descriptive data on fire service degree programs from which to begin cooperative planning. The information collected as part of this study will provide baseline data for future studies allowing for more accurate tracking of trends. In addition, institutions offering fire service degree programs can use this information as a benchmark and/or for comparing their program to national averages. Policymakers at the state and national level can use the information gathered to initiate and/or support program and legislative initiatives.

Affected Public: Individuals or heads of households, Not-for-profit institutions:

The three audiences for whom the survey is intended are:

(1) Potential students looking for a fire-related degree program;

(2) Fire Science Coordinators looking to start or revamp their programs; and

(3) Researchers of fire degree-related information, e.g., students working on term papers, fire service textbook publishers, Executive Fire Officer Program Papers and others.

As Not-for-Profit Institutions, colleges and universities offering fire-related degree programs are the recipients of the survey instruments.

Number of Respondents: 332.

Hour Burden Per Respondent: 45 minutes to complete initial survey and 30 minutes to complete annual updates.

Estimated Total Annual Burden Hours: Range from 166-249 hours with an average of 208 hours.

Estimated Cost to the Federal Government: $75,412.50.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities and Services Management Division, Administration and Resource Planning Directorate, Federal Emergency Management Agency, 500 C Street, SW, Room 316, Washington, DC 20472.

FOR FURTHER INFORMATION CONTACT: Contact Edward J. Kaplan, Education Specialist, U. S. Fire Administration, 16825 S. Seton Ave., Emmitsburg, MD 21727 or at Ed.Kaplan@fema.gov for additional information. Contact Ms. Anderson at (202) 646-2625 (voice), (202) 646-3347 (facsimile), or e-mail address: informationcollections@fema.gov for copies of the proposed information collection.

Dated: September 16, 2002.
Reginald Trujillo,
Branch Chief, Program Services and Systems Branch, Facilities and Services Management Division, Administration and Resource Planning Directorate.

[FR Doc. 02-24082 Filed 9-20-02; 8:45 am]

BILLING CODE 6718-01-P